DEPARTMENT OF ENERGY

Federal Energy Regulatory Commission

[Docket No. QF06-273-000]

City of Rocky Mount, NC; Notice of Filing of Self-Certification of Qualifying Status of Cogeneration Facility

January 11, 2007.

Take notice that on June 9, 2006, as completed on December 22, 2006, the City of Rocky Mount, NC filed a notice of self-certification of qualifying status of a cogeneration facility, pursuant to 18 CFR § 292.207(a) of the Commission's Regulations.

This qualifying cogeneration facility consists of a total of 2900 kW of packaged diesel engine generator sets operating on No. 2 fuel oil. The packages are set on concrete pads. The units are self-contained, including all necessary switchgear and controls. The electricity is generated at 480 V, 3 phase, 60 Hz. The facility is located at 6792 Corporate Parkway, Rocky Mount, North Carolina 27804.

This qualifying facility interconnects with the City of Rocky Mount's electric distribution system. The facility will provide standby power and occasionally supplementary power to The Cheesecake Factory.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible online at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E7-660 Filed 1-18-07; 8:45 am]

BILLING CODE 6717-01-P